DEPARTMENT OF HOUSING AND URBAN DEVELOPMENT

[Docket No. FR- 5921-N-09]

Privacy Act of 1974; Notice of a Computer Matching Program Between the Department of Housing and Urban Development (HUD) and the Department of Education (ED)

AGENCY: Office of Administration, HUD.

ACTION: Notice of a Computer Matching Program between HUD and ED.

SUMMARY: In accordance with the Privacy Act of 1974 (5 U.S.C. 552a), as amended by the Computer Matching and Privacy Protection Act of 1988 (Pub. L. 100-503), and the Office of Management and Budget (OMB) Guidelines on the Conduct of Matching Programs (54 FR 25818 (June 19, 1989); and OMB Bulletin 89-22, “Instructions on Reporting Computer Matching Programs to the Office of Management and Budget (OMB), Congress and the Public,” HUD is issuing a public notice of its intent to conduct a recurring computer matching program with ED for the purpose of incorporating ED debtor files into the Credit Alert Verification Reporting System (CAIVRS), which is a HUD computer information system.

DATES: Effective Date: The effective date of the matching program shall begin August 22, 2016, or at least 40 days from the date that copies of the Computer Matching Agreement, signed by both HUD and ED Data Integrity Boards (DIBs), are sent to OMB and Congress, whichever is later, provided that no comments that would result in a contrary determination are received.

Comments Due Date: August 22, 2016.

ADDRESSES: Interested persons are invited to submit comments regarding this notice to the Rules Docket Clerk, Office of General Counsel, Department of Housing and Urban Development, 451 Seventh Street, Room 10110, SW., Washington, DC 20410. Communications should refer to the above docket number and title. A copy of each communication submitted will be available for public inspection and copying between 8:00 a.m. and 5:00 p.m. weekdays at the above address.

FOR FURTHER INFORMATION CONTACT: Contact the “Recipient Agency” Acting Departmental Privacy Officer, Department of Housing and Urban Development, 451 Seventh Street SW., Room 10139, Washington, DC 20410, telephone number (202) 402-6147 or the “Source Agency” Department of Education, Federal Student Aid/Borrower Services, 830 First Street NE., Room UCP-41F2, Washington, DC 20202, telephone number (202) 377-3436. [These are not a toll-free numbers.] A telecommunication device for hearing- and speech-impaired individuals (TTY) is available at (800) 877-8339 (Federal Relay Service).

SUPPLEMENTARY INFORMATION: HUD's CAIVRS database includes delinquent debt information from the Departments of Education (ED), Veteran's Affairs (VA), Justice (DOJ), the Small Business Administration (SBA), and the U.S. Department of Agriculture (USDA). This data match will allow the prescreening of applicants for Federal direct loans or Federally guaranteed loans, for the purpose of determining the applicant's credit worthiness, by ascertaining whether the applicant is delinquent or in default on a loan owed directly to, or Federally guaranteed by, the Federal government. Lending Federal agencies and authorized private lending institution will be able to use the CAIVRS debtor file to verify that the loan applicant is not in default, or delinquent on a Federal direct or Federally guaranteed loan, prior to granting the applicant a loan. The CAIVRS database contains Personally Identifiable Information (PII) contributed by participating Federal agencies, including Social Security Numbers (SSNs) and other records of borrowers delinquent or in default on debts owed to, or guaranteed by HUD and other Federal agencies. Authorized users may not deny, terminate, or make a final decision concerning any loan assistance to an applicant or take other adverse action against such applicant based on the information produced by data matches conducted under CAIVRS, until such authorized users have independently verified such adverse information.

Reporting of Matching Program

In accordance with Public Law 100-503, the Computer Matching and Privacy Protection Act of 1988 as amended, and OMB Bulletin 89-22, “Instructions on Reporting Computer Matching Programs to the Office of Management and Budget (OMB), Congress and the Public,” copies of this notice and report are being provided to the U.S. House Committee on Oversight Government Reform, the U.S. Senate Homeland Security and Governmental Affairs Committee, and OMB.

Authority: HUD has authority to collect and review mortgage data pursuant to the National Housing Act, as amended, 12 U.S.C. 1701 et seq., and related laws. The Department of Education (ED) oversees and manages Federal student aid programs pursuant to the Higher Education Act of 1965, as amended, 20 U.S.C. 1001 et seq. This computer matching will be conducted pursuant to Pub. L. 100-503, “The Computer Matching and Privacy Protection Act of 1988,” as amended, and OMB Circulars A-129 (Managing Federal Credit Programs). One of the purposes of all Executive departments and agencies is to implement efficient management practices for Federal Credit Programs. OMB Circular A-129 was issued under the authority of the Budget and Accounting Act of 1921, as amended; the Budget and Accounting Act of 1950, as amended; the Debt Collection Act of 1982, as amended by the Debt Collection Improvement Act of 1996; Section 2653 of Pub. L. 98-369; the Federal Credit Reform Act of 1990, as amended; the Federal Debt Collection Procedures Act of 1990, the Chief Financial Officers Act of 1990, as amended; Executive Order 8248; the Cash Management Improvement Act Amendments of 1992; and pre-existing common law authority to charge interest on debts and to offset payments to collect debts administratively.

Objectives To Be Met by the Matching Program

The objective of this matching program is to give program agencies access to a system that allows them to prescreen applicants for loans made, or loans guaranteed, by the Federal Government to ascertain if the applicant is delinquent in paying a debt owed to or guaranteed by the Federal Government. As part of this process, HUD will be provided access to ED's debtor data for prescreening purposes.

The use of CAIVRS will allow HUD to better monitor its credit programs and to reduce the credit extended to individuals with outstanding delinquencies on debts owed to HUD and other Federal agencies. ED expects that its participation in CAIVRS will further other Federal agencies' efforts to reduce credit risks through loan prescreening, and prompt student loan defaulters, who are denied credit by other Federal agencies, to make arrangements to repay their defaulted student loans.

Under this computer matching program, HUD/CAIVRS receives limited information on borrowers who have defaulted on loans administered by participating Federal agencies each month. The information includes: Borrower ID Number—The Social Security Number (SSN), Employer Identification Number (EIN) or Taxpayer Identification Number (TIN) of the borrower on a delinquent or defaulted Federal direct loan or Federally guaranteed loan. Federal agency personnel and authorized lenders must enter a user authorization code followed by either a SSN or EIN to access CAIVRS. Only the following information is returned or displayed:

○ Yes/No as to whether the holder of that SSN/EIN is in default on a Federal loan; and

○ If Yes, then CAIVRS provides to the lender:

○ Loan case number;

○ Record type (claim, default, foreclosure, or judgment);

○ Agency administering the loan program;

○ Phone number at the applicable Federal agency (to call to clear up the default); and

○ Confirmation Code associated with the query.

Federal law mandates the suspension of the processing of applications for Federal credit benefits (such as government-insured loans) if the applicants are delinquent on Federal or Federally guaranteed debt. Processing may continue only after the borrower satisfactorily resolves the debt (e.g., pays in full or renegotiates a new payment plan). To remove a CAIVRS sanction, the borrower must contact the Federal agency that reported their SSN or EIN to HUD/CAIVRS using the information provided.

Records To Be Matched

HUD will use records from the Single Family Default Monitoring System (SFDMS/F42D (72 FR 65350 November 20, 2007)), and Single Family Insurance System—Claims Subsystem (CLAIMS/A43C (72 FR65348 November 20, 2007)), as combined in CAIVRS to provide an up-to-date dataset to be used in records matching. SFDMS maintains data on mortgages that are 90 or more days delinquent. The Mortgagee or Servicer must submit a Monthly Delinquent Loan Report (HUD-92068-A) to HUD on a monthly basis until the mortgage status has been completed by all Mortgagees, or is otherwise terminated or deleted. Mortgagees and Servicers provide default data to HUD via Electronic Data Interchange (EDI) or using the Internet via FHA Connection, through which the data is sorted, pre-screened, key entered, edited, and otherwise processed. Reports are generated for HUD Headquarters and Field Offices to review.

CLAIMS provides automated receipt, tracking and processing of form HUD-27011, Single Family Application for Insurance Benefits. CLAIMS provides online update and inquiry capability to Single Family Insurance and Claims databases, and to cumulative history files. Claim payments are made by Electronic Funds Transfer (EFT) via an HDS platform (IBM mainframe/Treasury interface) on a daily basis.

For the actual data match, ED will use records from the system of records entitled “Title IV Program Files” (18-11-05), originally published in the Federal Register on June 4, 1999 (64 FR 30163), and subsequently amended on December 27, 1999 (64 FR 72407). However, the ED records from which the match information is compiled are maintained in the “Student Financial Assistance Collection Files” system of records (18-11-07), 64 FR 30166 (June 4, 1999), as amended, 64 FR 72407 (December 27, 1999). The ED routine use for this match is published as “routine use number one” in the system of records notice for the “Student Financial Assistance Collection Files” (18-11-07), which permits disclosures of the pertinent information to HUD.

Notice Procedures

HUD and ED have separate procedures for notifying individuals that their records will be matched to determine whether they are delinquent or in default on a Federal debt. HUD will notify individuals at the time of application for a HUD/FHA mortgage, and ED will notify individuals at the time of application for Title IV, Higher Education Act (HEA) Federal student loan. The application for Title IV, HEA program assistance explains that as part of the application process, ED may disclose information from that application to other Federal agencies under a published “routine use” without the applicants' consent, as permitted by law. HUD and ED published a notice concerning routine use disclosures in the Federal Register to inform individuals that a computer match may be performed to determine a loan applicant's credit status with the Federal Government. The Privacy Act also requires that a copy of each Computer Matching Agreement entered into with a recipient agency shall be available upon request to the public.

Categories of Records/Individuals Involved

Data elements disclosed in computer matching governed by this Agreement are Personally Identifiable Information (PII) from the specified ED system of record. The data elements supplied by ED to CAIVRS are the following:

• Borrower ID Number—The Social Security Number (SSN), Employer Identification Number (EIN) or Taxpayer Identification Number (TIN) of the borrower on a delinquent or defaulted federal direct loan or Federally guaranteed loan.

• Case Number—A reference number issued by the reporting agency for the delinquent or defaulted federal direct loan or Federally guaranteed loan.

• Agency Code—A code assigned to the reporting agency.

• Type Code—A code that indicates the type of record—claim, default, foreclosure, or judgment.

• Borrower ID Type—A code that indicates whether the Borrower ID Number is a SSN, EIN, or TIN.

Period of the Match

Matching will begin at least 40 days from the date that copies of the Computer Matching Agreement, signed by HUD and ED DIBs, are sent to both Houses of Congress and OMB; or at least 30 days from the date this notice is published in the Federal Register, whichever is later, provided that no comments that would result in a contrary determination are received. The matching program will be in effect and continue for 18 months with an option to renew for 12 additional months unless one of the parties to the Agreement advises the other in writing to terminate or modify the Agreement.

Dated: June 22, 2016.
Patricia A. Hoban-Moore,
Chief Administrative Officer.

[FR Doc. 2016-17255 Filed 7-20-16; 8:45 am]

BILLING CODE 4210-67-P